DEPARTMENT OF HEALTH AND HUMAN SERVICES

Centers for Disease Control and Prevention

[30Day-05-0405X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5976 or send an e-mail to omb@cdc.gov. Send written comments to CDC Desk Officer, Human Resources and Housing Branch, New Executive Office Building, Room 10235, Washington, DC 20503 or by fax to (202) 395-6974. Written comments should be received within 30 days of this notice.

Proposed Project

Comprehensive Cancer Control: Implementation Case Study—New—National Center for Chronic Disease Prevention and Health Promotion (NCCDPHP), Centers for Disease Control and Prevention (CDC).

Background

While much has been learned about the development of Comprehensive Cancer Control (CCC) plans, little is known about CCC grantee activities, organizational capacity, or essential elements of implementing CCC plans. CDC, through a contractor will evaluate the necessary components of the CCC Program. The evaluation consists of: (1) The design of a plan to evaluate the CCC Program; (2) an evaluation of grantee activities; (3) a nationwide assessment of capacity to plan, implement and evaluate CCC programs; and (4) a study of selected grantees' experiences implementing CCC plans. This project will focus on the fourth component of the evaluation.

Implementation case studies provide the opportunity to follow the relationships among needs identified in the planning process, goals and objectives established in the plan (priorities for action), and implemented activities. The goals of the proposed data collection are to document the process and activities CCC programs undertake to implement a CCC plan, and to document measures CCC programs use to assess how well a CCC plan is implemented.

The data will be collected via in-person interviews with key personnel in the implementation of CCC plans. Key personnel will include: Program directors, program staff in health departments and partner organizations, partner organization decision-makers, program evaluators, and representatives from non-partner organizations. Interviews will take place during one 3-to 4-day site visit to 10 sites. The program directors will also complete a packet of background information in preparation for the site visits. The only cost to respondents is their time. The total annual burden for this data collection is 145 hours.

Annualized Burden Table
Form |  | Type of respondents | Number of respondents | Number of responses per respondent | Avg. burden per response (in hours)
1 | Interview | Program Directors | 10 | 1 | 2
2 | Interview | CCC Partners with General Knowledge | 25 | 1 | 1
3 | Interview | Partners with Focus Area Expertise | 15 | 1 | 1.5
4 | Interview | CCC Program Staff with General CCC Knowledge | 15 | 1 | 1
5 | Interview | CCC Program Staff with Focus Area Experties | 15 | 1 | 1.5
6 | Interview | Evaluators | 10 | 1 | 1
7 | Interview | Non-partners | 20 | 1 | 1
8 | Data Tables | Program Directors | 5 | 1 | 2

Dated: January 21, 2005.
Betsey Dunaway,
Acting Reports Clearance Officer, Office of the Chief Science Officer, Centers for Disease Control and Prevention.

[FR Doc. 05-1493 Filed 1-26-05; 8:45 am]

BILLING CODE 4163-18-P